NUCLEAR REGULATORY COMMISSION

[Docket Nos. 72-7 and 50-255]

License No. DPR-20, Nuclear Management Company, LLC; Notice of Issuance of Director's Decision Under 10 CFR 2.206

Notice is hereby given that the Director, Office of Nuclear Material Safety and Safeguards, has issued a director's decision with regard to a petition dated April 4, 2006, filed by Mr. Terry J. Lodge, on behalf of five organizations and 30 individuals, hereinafter referred to as the Petitioners. Representatives for the Petitioners participated in a telephone conference call with NRC's Petition Review Board (PRB) on April 26, 2006, to discuss the petition. The teleconference was transcribed and the transcription was treated as a supplement to the petition. Transcripts of the teleconference are available via the Agencywide Documents Access and Management System (ADAMS) on the agency's Web site at http://www.nrc.gov/reading-rm/adams.html, and for inspection at the NRC Public Document Room, located at One White Flint North, Public File Area O-1F21, 11555 Rockville Pike (first floor), Rockville, Maryland. The petition concerns the operation of the independent spent fuel storage installation (ISFSI) at the Palisades Nuclear Plant.

The Petitioners requested that the NRC take enforcement action against the licensee for the Palisades Nuclear Plant, Nuclear Management Company, LLC (NMC), by condemning and stopping the use of the two independent spent fuel storage installation (ISFSI) concrete pads holding dry spent fuel storage casks on the plant site.

As the basis for the petition, the Petitioners stated that the concrete cask storage pads do not conform with NRC regulations for earthquake stability, specifically 10 CFR 72.212(b)(2)(i)(B) and 72.212(b)(3), and, therefore, pose a hazard in case of an earthquake. The Petitioners asserted that the licensee's evaluations of the older and newer concrete storage pads did not properly consider the behavior of the soil beneath the pads in determining the effects on the storage casks as a result of a seismic event.

On April 26, 2006, the NRC staff's PRB held a teleconference with the Petitioners. The teleconference gave the Petitioners an opportunity to provide additional information and to clarify issues raised in the petition. During the teleconference, the Petitioners requested additional time to submit a supplement to the petition, and the PRB agreed to the request, as documented in a letter to the Petitioners, dated May 4, 2006. However, no supplement was submitted. On June 27, 2006, the NRC staff informed the Petitioners by letter that the issue regarding the seismic response of the older ISFSI pad, and the issue of soil amplification for the newer pad, had been previously resolved and would not be considered under 10 CFR 2.206. In that same letter, the staff informed the Petitioners that the issue regarding the slope stability analysis for the newer pad was accepted for review under 10 CFR 2.206. The transcript of the teleconference and the letters are available in ADAMS, as stated above.

On November 28, 2006, the NRC sent a copy of the proposed director's decision to the Petitioners and to the licensee for comment. At the request of the Petitioners, the NRC extended the end of the comment period from January 5, 2007, to February 2, 2007. The Petitioners submitted comments by electronic mail on February 2, 2007. The comments and the staff's responses to them are available electronically through the NRC's Public Electronic Reading Room at http://www.nrc.gov/reading-rm.html, under docket number 07200007.

The Director of the Office of Nuclear Material Safety and Safeguards has determined that the Petitioners' request, to condemn and stop the use of the two ISFSI concrete pads holding dry spent fuel storage casks at the Palisades site, is denied. The NRC staff has concluded that the Petitioners' concerns have been adequately addressed by the licensee's revised slope stability evaluation for the newer concrete storage pad. The reasons for this decision are explained in the director's decision [DD-07-02] pursuant to Title 10 of the Code of Federal Regulations (10 CFR), Section 2.206, the complete text of which is available at the Commission's Public Document Room, located at One White Flint North, Public File Area O-1F21, 11555 Rockville Pike (first floor), Rockville, Maryland, and from the ADAMS Public Library component on the NRC's Web site, http://www.nrc.gov/reading-rm.html (the Public Electronic Reading Room).

A copy of the director's decision will be filed with the Secretary of the Commission for the Commission's review in accordance with 10 CFR 2.206 of the Commission's regulations. As provided for by this regulation, the director's decision will constitute the final action of the Commission 25 days after the date of the decision, unless the Commission, on its own motion, institutes a review of the director's decision in that time.

Dated at Rockville, Maryland, this 20th day of March 2007.
For the Nuclear Regulatory Commission.
Jack R. Strosnider,
Director, Office of Nuclear Material Safety and Safeguards.

[FR Doc. E7-5433 Filed 3-23-07; 8:45 am]

BILLING CODE 7590-01-P